DEPARTMENT OF STATE

[Public Notice 3578]

Language and Cultural Enhancement Program; Request for Grant Proposals

AGENCY: Bureau of Educational and Cultural Affairs; State.

SUMMARY: The Office of Citizen Exchanges, Youth Programs Division of the Bureau of Educational and Cultural Affairs announces an open competition for a Language and Cultural Enhancement Program. Public and private non-profit organizations meeting the provisions described in IRS regulation 26 CFR 1.501(c) may submit proposals to conduct a four-week homestay-based, English Language and Cultural Enrichment program from mid-July to mid-August, 2001 for 50 students from the New Independent States (NIS) of the former Soviet Union selected for the Freedom Support Act (FSA) Future Leaders Exchange (FLEX) program. Approximately 15 of the participants will be students with physical disabilities who were specially recruited and selected. The remaining 35 students will be from more isolated regions of the NIS, where there is less opportunity for quality English instruction. The purpose of the program is to raise the English capability of these students to the level where they are able to attend regular classes when their academic program starts in the fall. Additionally, this program will ease the acculturation process when students transit to their permanent host families and communities. Only one grant will be awarded. Funds requested for this project may not exceed $100,000.

Program Information

Objectives: To prepare a select group of students with special needs to attend school in the fall and perform at a level closer to that of those FSA/FLEX students who make up the majority of the program finalists. To provide students with cultural tools and strategies that will foster a successful exchange experience.

Background: Academic year 2001/2002 will be the ninth year of the FSA/FLEX program, which now includes over 8,000 alumni. This component of the NIS Secondary School Initiative was originally authorized under the FREEDOM Support Act of 1992 and is funded by annual allocations from the Foreign Operations and Department of State appropriations. The goals of the program are to promote mutual understanding and foster a relationship between the people of the NIS and the U.S.; assist the successor generation of the NIS to develop the qualities it will need to lead in the transformation of those countries in the 21st century; and to promote democratic values and civic responsibility by giving NIS youth the opportunity to live in American society for an academic year.

During the program's early years, there was concern that students from the more remote regions of the NIS might be underrepresented because the lack of English competence in those regions could prevent applicants from meeting the rigorous English language requirements of the FLEX recruitment process, including attaining a reasonable score on the Secondary Level English Proficiency (SLEP) examination. To address this concern, a pre-academic year English language enrichment program was developed so that some students from the remote areas could be selected whose SLEP scores were slightly lower than average. In 1996, the FLEX program added a component incorporating students with disabilities, who do have a need for some special language and cultural training before initiating their academic year program. The enhancement program for which proposals are being solicited here is in support of both groups of students.

The essential components of the enhancement program are:

• A four-week course of study in English, approximately 5.5 hours a day, to build on the language skills that the students already have.

• Programming that builds on cultural issues that will have been introduced at the pre-departure orientation for all FSA FLEX students.

• Orientation programming that addresses the special needs of the students with disabilities and their unique adjustment issues.

• Accommodation with volunteer host families for the period of the workshop.

• Preparing the students for the transition to their permanent host families and communities.

Other Components: Two organizations have already been awarded grants to perform the following functions: recruitment and selection of all FLEX students; preparation of cross-cultural materials; pre-departure orientation; international travel from home to host community and return; facilitation of ongoing communication between the natural parents and placement organizations, as needed; maintenance of a student database and provision of data to Department of State; and ongoing follow-up with alumni upon their return to the NIS.

Additionally, 17 “placement organizations” have been selected through a grants competition to place the 2001-2002 FSA FLEX students in schools and homestays for the academic year, to monitor their progress, and to conduct program-related cultural enrichment activities. The organization selected for the Language and Cultural Enhancement Program will be asked to interact with the placement organizations to ensure the students' smooth transition from this pre-academic training to their permanent placements.

Guidelines: Applicants should consult the Project Objectives Goals and Implementation (POGI) guidelines for a detailed statement of work. The program must take place from mid-July to mid-August, 2001. The venue for the program should be one with minor distractions to enable students to focus on the coursework and experience life in a typical American family and community. It should be conducive to a smooth transition to the students' permanent placements. Whenever possible, the coursework should have a forward-focus that provides opportunities for students to view situations in the context of the host family and community to which they'll be going, rather than the LCE host family with whom they are staying only for the duration of this special program. The region in which the LCE program is taking place should also have resources that can be drawn upon for cultural enrichment. Students with disabilities will need to be carefully assessed by someone with expertise in working with persons with disabilities. This individual(s) should also provide support and serve as a resource on disabilities for the LCE teachers, as well as the students, during the duration of the program. At all times, reasonable accommodations must be provided, as needed, for all participants with disabilities. FLEX participants travel on J-1 visas issued by the Department of State using a government program number. The students are covered by the health and accident insurance policies used by their placement organizations. The grantee organization will acknowledge its responsibility to coordinate with the appropriate organization(s) any time medical treatment is needed for the duration of the students' participation in the enhancement program.

Applicants may assume that grant activity will begin by May 1, 2001. Programs must comply with J-1 visa regulations. Please refer to the Solicitation Package for further information.

Budget Guidelines: Grants awarded to eligible organizations with less than four years of experience in conducting international exchange programs will be limited to $60,000. The Bureau anticipates awarding one grant in the amount of $100,000 to support program and administrative costs required to implement this program.

Applicants must submit a comprehensive budget for the entire program. There must be a summary budget as well as breakdowns reflecting both administrative and program budgets. Applicants may provide separate sub-budgets for each program component, phase, location, or activity to provide clarification. See POGI for allowable costs for the program. Please refer to the Solicitation Package for complete budget guidelines and formatting instructions.

Announcement Title and Number: All correspondence with the Bureau concerning this RFP should reference the above title and number—ECA/PE/C/PY-01-36

FOR FURTHER INFORMATION, CONTACT: Youth Programs Division, ECA/PE/C/PY, Room 568, U.S. Department of State, 301 4th Street, S.W., Washington, D.C. 20547, tel. (202) 619-6299, fax (202) 619-5311, e-mail daronson@pd.state.gov to request a Solicitation Package.

The Solicitation Package contains detailed award criteria, required application forms, specific budget instructions, and standard guidelines for proposal preparation. Please specify Bureau Program Officer Diana Aronson on all other inquiries and correspondence.

Please read the complete Federal Register announcement before sending inquiries or submitting proposals. Once the RFP deadline has passed, Bureau staff may not discuss this competition with applicants until the proposal review process has been completed.

To Download a Solicitation Package Via Internet: The entire Solicitation Package may be downloaded from the Bureau's website at http://exchanges.state.gov/education/rfps. Please read all information before downloading.

Deadline for Proposals

All proposal copies must be received at the Bureau of Educational and Cultural Affairs by 5 p.m. Washington, DC time on Monday, March 29, 2001. Faxed documents will not be accepted at any time. Documents postmarked the due date but received on a later date will not be accepted. Each applicant must ensure that the proposals are received by the above deadline.

Applicants must follow all instructions in the Solicitation Package. The original and seven copies of the application should be sent to: U.S. Department of State, SA-44, Bureau of Educational and Cultural Affairs, Ref: ECA/PE/C/PY-01-36, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all and will review them for technical eligibility. Proposals will be deemed ineligible if they do not fully adhere to the guidelines stated herein and in the Solicitation Package. All eligible proposals will be reviewed by the program office, as well as other Bureau officers, where appropriate. Eligible proposals will be forwarded to panels of Department of State officers for advisory review. Proposals may also be reviewed by the Office of the Legal Adviser or by other Bureau elements. Final funding decisions are at the discretion of the Department of State's Acting Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission. Integration of language and culture components should adhere to stated objectives of this project.

2. Program planning: Detailed agenda and relevant work plan should demonstrate substantive undertakings and logistical capacity. Agenda and plan should adhere to the program overview and guidelines described above. Refer to POGI regarding elements that should be included in a calendar of activities/timetable.

3. Ability to achieve program objectives: Objectives should be measurable, tangible and flexible. Proposals should clearly demonstrate how the organization will meet the program's objectives and plan.

4. Support of Diversity: Proposals should demonstrate substantive support of the Bureau's policy on diversity. Achievable and relevant features should be cited in both program administration (selection of staff and speakers, program venue, host families) and program content (curriculum, orientation and wrap-up sessions, program meetings, and resource materials).

5. Institutional Capacity: Proposed personnel and institutional resources should be adequate and appropriate to achieve the program or project's goals. Coordinator responsible for curriculum, materials development and instruction should demonstrate relevant ESL/U.S. culture teaching experience and qualifications.

6. Institution's Record/Ability: Proposals should demonstrate an institutional record of successful language/culture programs, including responsible fiscal management and full compliance with all reporting requirements for past Bureau grants as determined by Bureau Grant Staff. The Bureau will consider the past performance of prior recipients and the demonstrated potential of new applicants.

7. Project Evaluation: Proposals should include a plan to evaluate the program's success, both as the activities unfold and at the end of the program. A draft survey questionnaire, tests, or other techniques plus description of a methodology to use to link outcomes to original project objectives is recommended. Successful applicant will be expected to submit a final report after project is concluded.

8. Cost-effectiveness/ Cost-sharing: The overhead and administrative components of the proposal, including salaries and honoraria, should be kept as low as possible. All other items should be necessary and appropriate. Proposals should maximize cost-sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation appropriating funds annually for Department of State's exchange programs.

Notice

The terms and conditions published in this RFGP are binding and may not be modified by any Bureau representative. Explanatory information provided by the Bureau that contradicts published language will not be binding. Issuance of the RFP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: February 12, 2001.
Helena Kane Finn,
Acting Assistant Secretary for Educational and Cultural Affairs, Department of State.

[FR Doc. 01-4396 Filed 2-21-01; 8:45 am]

BILLING CODE 4710-11-P